DEPARTMENT OF THE INTERIOR

Bureau of Land Management

[LLID9310000.L10200000.EE0000. LXSSD0010000]

Notice of Availability of the Draft Environmental Impact Statement for the Jump Creek, Succor Creek, and Cow Creek Watersheds Grazing Permit Renewal, ID

AGENCY: Bureau of Land Management, Interior.

ACTION: Notice of availability.

SUMMARY: In accordance with the National Environmental Policy Act of 1969, as amended, the Bureau of Land Management (BLM) has prepared a Draft Environmental Impact Statement (EIS) for the Jump Creek, Succor Creek, and Cow Creek Watersheds Grazing Permit Renewal and by this notice is announcing the opening of the comment period.

DATES: To ensure comments will be considered, the BLM must receive written comments on the Draft EIS for the Jump Creek, Succor Creek, and Cow Creek Watersheds Grazing Permit Renewal by June 17, 2013.

The BLM will announce meetings or hearings and any other public involvement activities regarding the Draft EIS at least 15 days in advance through public notices, media releases, and/or mailings.

ADDRESSES: You may submit comments related to the Draft EIS for the Jump Creek, Succor Creek, and Cow Creek Watersheds Grazing Permit Renewal by any of the following methods:

• Web site: http://www.blm.gov/id/st/en/prog/nepa_register/owyhee_grazing_group/grazing_permit_renewal0.html.

• Email: BLM_ID_NPR_EIS@blm.gov.

• Fax: (208) 373-3805.

• Mail: Bureau of Land Management, 1387 S. Vinnell Way, Boise ID 83709.

Copies of the Draft EIS for the Jump Creek, Succor Creek, and Cow Creek Watersheds Grazing Permit Renewal are also available on CD (upon request) from the BLM Idaho State Office at the above address.

FOR FURTHER INFORMATION CONTACT: Jake Vialpando, Project Manager, telephone: 208-373-3814; address: 1387 S. Vinnell Way, Boise ID 83709; email: jvialpando@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Owyhee Field Office in Marsing, Idaho, has prepared a Draft EIS to address grazing permit renewal requests in the Jump Creek, Succor Creek, and Cow Creek areas, and announces the beginning of the 45-day public comment period. The area covered by the permit renewal requests is located in Owyhee County, Idaho, and encompasses approximately 120,000 acres of public land. In addition to livestock grazing, a variety of other multiple uses exist within this area, including: Year-long recreation activities, particularly hiking, boating, fishing, hunting, and off-road vehicle use; wild horse management; potential wind energy development and electrical transmission line development. The Owyhee Field Office will consult with the Shoshone-Paiute Tribes and other parties, as applicable, on this action during regular consultation proceedings and briefings. Federal, state, and local agencies, along with other stakeholders that may be interested or affected by the BLM's decision on this project are invited to comment as well.

The purpose of the action in the Draft EIS is to provide for livestock grazing opportunities on public lands using existing infrastructure where such grazing is consistent with meeting management objectives, including the Idaho Standards for Rangeland Health and Guidelines for Livestock Grazing Management (1997).

The need is established by the Taylor Grazing Act (TGA), the Federal Land Policy and Management Act (FLPMA), and the Owyhee Resource Management Plan (ORMP) (1999), which require that the BLM respond to applications to renew or for new permits to graze livestock on public land. In detail, analysis of the actions identified in the applications for grazing permit renewals and the alternative actions is needed because:

• BLM-Idaho adopted the Idaho Standards for Rangeland Health and Guidelines for Livestock Grazing Management (Idaho S&Gs) in 1997. Rangelands should be meeting or making significant progress toward meeting the standards and must provide for proper nutrient cycling, hydrologic cycling, and energy flow. Guidelines direct the selection of grazing management practices and, where appropriate, livestock facilities to promote significant progress toward, or the attainment and maintenance of, the standards.

• The ORMP identifies resource management objectives and management actions that guide the management of a broad spectrum of land uses and allocations for public lands in the Owyhee Field Office. The ORMP allocated public lands within the 25 allotments available for domestic livestock grazing. Where consistent with the goals and objectives of the ORMP and Idaho S&Gs, allocation of forage for livestock use and the issuance of grazing permits to qualified applicants are provided for by the TGA and the FLPMA.

Issues were identified by BLM personnel, Federal, state, and local agencies, and other stakeholders during scoping. Some of these key issues include the effects of livestock grazing on rangelands, wild horse herd management areas, wildlife habitats (including greater sage-grouse habitats), as well as the potential for disease transmission between domestic and bighorn sheep. Livestock management modifications are required where current livestock grazing management is determined by the authorized officer to be a significant causal factor for not meeting or making significant progress towards meeting the Idaho Standards for Rangeland Health; and to achieve ORMP objectives. Evidence on interaction between bighorn sheep and domestic sheep suggests that contact between the two species can transmit disease, cause mortality to individual bighorn sheep, and affect herd health.

Other key issues that are identified and analyzed in the Draft EIS involve the impact of livestock grazing on riparian area conditions and aquatic habitat causing the alteration of the health and composition of riparian vegetation communities, especially fish and amphibian habitat conditions directly related to conditions within the riparian vegetation community; sage-grouse habitat conditions as it relates to rangeland health conditions, and the maintenance and enhancement of sage-grouse populations in accordance with BLM policy. Additionally, upland vegetation and watershed conditions affected by livestock grazing that may reduce or remove native vegetation communities that protect watershed soil and hydrologic function are analyzed in the Draft EIS. Also included in the analysis of issues are special status plant species and how their reproduction can be affected by livestock grazing, and how noxious and invasive weeds have the potential to increase or spread by livestock grazing and trailing.

The BLM analyzed the potential effects of six alternative grazing systems. Alternative 1 is the No Action alternative, which analyzes the consequences if current grazing management actions were to continue. Alternative 2 reflects the applications received from the current permittees who are authorized to graze in these allotments. This alternative is described as the Proposed Action which, in this case, is one that was developed by non-BLM parties. Alternative 3 analyzes the incorporation of a deferred grazing schedule where postponement or delay of grazing is used to achieve management objectives. Alternative 4 incorporates a grazing schedule that prescribes seasons-of-use changes including rest and deferment to protect and enhance high-value resources during certain times of the year. Alternatives 3 and 4 both include AUM reductions at varying levels. Alternative 5 addresses the effects specific to a change in livestock classification from sheep to cattle. Alternative 6 analyzes the effects of no grazing in the allotments for a period of 10 years.

By the time the Final EIS is published, the agency is required to identify its preferred alternative (40 CFR 1502.14 (e)) and will do so at that time. The agency seeks public comments on the proposed action and alternative methods of rangeland management that are analyzed in the Draft EIS.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Loretta V. Chandler,
BLM Owyhee Field Manager.

[FR Doc. 2013-10250 Filed 5-2-13; 8:45 am]

BILLING CODE 4310-GG-P